DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more entity and aircraft that have been placed on OFAC's Specially Designated Nationals and Blocked Persons List based on OFAC's determination that one or more applicable legal criteria were satisfied. All property and interests in property subject to U.S. jurisdiction of this person and these aircraft are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On February 7, 2020, OFAC determined that the property and interests in property subject to U.S. jurisdiction of the following entity and the following aircraft subject to U.S. jurisdiction are blocked under the relevant sanctions authority listed below.

Entity

1. CONSORCIO VENEZOLANO DE INDUSTRIAS AERONAUTICAS Y SERVICIOS AEREOS, S.A. (a.k.a. CONVIASA), Avenida Intercomunal, Edificio Sede, Sector 6.3, Maiquetia, Distrito Federal, Venezuela; Avenida Lecuna Torre Oeste Piso 49, Libertador, Caracas, Venezuela; Phone Number 53 212 5078868; RIF # G-20007774-3 (Venezuela) [VENEZUELA-EO13884].

Identified pursuant to Executive Order 13884, “Blocking Property of the Government of Venezuela,” 84 FR 38843 (“E.O. 13884” or the “Order”) for meeting the definition of Government of Venezuela, a person whose property and interests in property are blocked pursuant to E.O. 13884.

Aircraft

1. YV1000; Aircraft Model DHC7; Aircraft Manufacturer's Serial Number (MSN) 068; Aircraft Tail Number YV1000 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

2. YV1003; Aircraft Model DHC7; Aircraft Manufacturer's Serial Number (MSN) 103; Aircraft Tail Number YV1003 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

3. YV1004; Aircraft Model A340; Aircraft Manufacturer's Serial Number (MSN) 031; Aircraft Tail Number YV1004 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

4. YV1005; Aircraft Model ATR42; Aircraft Manufacturer's Serial Number (MSN) 491; Aircraft Tail Number YV1005 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

5. YV1007; Aircraft Model B737; Aircraft Manufacturer's Serial Number (MSN) 23949; Aircraft Tail Number YV1007 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

6. YV1008; Aircraft Model ATR42; Aircraft Manufacturer's Serial Number (MSN) 346; Aircraft Tail Number YV1008 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

7. YV1009; Aircraft Model ATR42; Aircraft Manufacturer's Serial Number (MSN) 487; Aircraft Tail Number YV1009 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

8. YV1850; Aircraft Model ATR72; Aircraft Manufacturer's Serial Number (MSN) 276; Aircraft Tail Number YV1850 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

9. YV2421; Aircraft Model ATR72; Aircraft Manufacturer's Serial Number (MSN) 482; Aircraft Tail Number YV2421 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

10. YV2422; Aircraft Model ATR72; Aircraft Manufacturer's Serial Number (MSN) 486; Aircraft Tail Number YV2422 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

11. YV2556; Aircraft Model B737; Aircraft Manufacturer's Serial Number (MSN) 24712; Aircraft Tail Number YV2556 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

12. YV2557; Aircraft Model B737; Aircraft Manufacturer's Serial Number (MSN) 24633; Aircraft Tail Number YV2557 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

13. YV2558; Aircraft Model B737; Aircraft Manufacturer's Serial Number (MSN) 23096; Aircraft Tail Number YV2558 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

14. YV2559; Aircraft Model B737; Aircraft Manufacturer's Serial Number (MSN) 23097; Aircraft Tail Number YV2559 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

15. YV2849; Aircraft Model ERJ190; Aircraft Manufacturer's Serial Number (MSN) 19000509; Aircraft Tail Number YV2849 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

16. YV2850; Aircraft Model ERJ190; Aircraft Manufacturer's Serial Number (MSN) 19000505; Aircraft Tail Number YV2850 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

17. YV2851; Aircraft Model ERJ190; Aircraft Manufacturer's Serial Number (MSN) 19000515; Aircraft Tail Number YV2851 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

18. YV2911; Aircraft Model ERJ190; Aircraft Manufacturer's Serial Number (MSN) 19000610; Aircraft Tail Number YV2911 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

19. YV2912; Aircraft Model ERJ190; Aircraft Manufacturer's Serial Number (MSN) 19000612; Aircraft Tail Number YV2912 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

20. YV2913; Aircraft Model ERJ190; Aircraft Manufacturer's Serial Number (MSN) 19000622; Aircraft Tail Number YV2913 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

21. YV2943; Aircraft Model ERJ190; Aircraft Manufacturer's Serial Number (MSN) 19000634; Aircraft Tail Number YV2943 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

22. YV2944; Aircraft Model ERJ190; Aircraft Manufacturer's Serial Number (MSN) 19000635; Aircraft Tail Number YV2944 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

23. YV2953; Aircraft Model ERJ190; Aircraft Manufacturer's Serial Number (MSN) 19000643; Aircraft Tail Number YV2953 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

24. YV2954; Aircraft Model ERJ190; Aircraft Manufacturer's Serial Number (MSN) 19000644; Aircraft Tail Number YV2954 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

25. YV2964; Aircraft Model ERJ190; Aircraft Manufacturer's Serial Number (MSN) 19000646; Aircraft Tail Number YV2964 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

26. YV2965; Aircraft Model ERJ190; Aircraft Manufacturer's Serial Number (MSN) 19000645; Aircraft Tail Number YV2965 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

27. YV2966; Aircraft Model ERJ190; Aircraft Manufacturer's Serial Number (MSN) 19000485; Aircraft Tail Number YV2966 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

28. YV2969; Aircraft Model 208; Aircraft Manufacturer's Serial Number (MSN) 208B5062; Aircraft Tail Number YV2969 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

29. YV2970; Aircraft Model 208; Aircraft Manufacturer's Serial Number (MSN) 208B5071; Aircraft Tail Number YV2970 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

30. YV2984; Aircraft Model A319; Aircraft Manufacturer's Serial Number (MSN) 1468; Aircraft Tail Number YV2984 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

31. YV2993; Aircraft Model 208; Aircraft Manufacturer's Serial Number (MSN) 208B5082; Aircraft Tail Number YV2993 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

32. YV2994; Aircraft Model 208; Aircraft Manufacturer's Serial Number (MSN) 208B5083; Aircraft Tail Number YV2994 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

33. YV3016; Aircraft Model ERJ190; Aircraft Manufacturer's Serial Number (MSN) 19000177; Aircraft Tail Number YV3016 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

34. YV3032; Aircraft Model 208; Aircraft Manufacturer's Serial Number (MSN) 208B5136; Aircraft Tail Number YV3032 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

35. YV3033; Aircraft Model 208; Aircraft Manufacturer's Serial Number (MSN) 208B5140; Aircraft Tail Number YV3033 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

36. YV3034; Aircraft Model 208; Aircraft Manufacturer's Serial Number (MSN) 208B5142; Aircraft Tail Number YV3034 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

37. YV3052; Aircraft Model ERJ190; Aircraft Manufacturer's Serial Number (MSN) 19000675; Aircraft Tail Number YV3052 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

38. YV3071; Aircraft Model ERJ190; Aircraft Manufacturer's Serial Number (MSN) 19000676; Aircraft Tail Number YV3071 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

39. YV3434; Aircraft Model B737; Aircraft Manufacturer's Serial Number (MSN) 21167; Aircraft Tail Number YV3434 (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

40. YV378T; Aircraft Model B737; Aircraft Manufacturer's Serial Number (MSN) 23789; Aircraft Tail Number YV378T (aircraft) [VENEZUELA-EO13884] (Linked To: CONSORCIO VENEZOLANO DE INDUSTRIAS AERONAUTICAS Y SERVICIOS AEREOS, S.A.).

Identified pursuant to E.O. 13884 as property in which CONVIASA, an entity whose property and interests in property are blocked pursuant to E.O. 13884, has an interest.

Dated: February 7, 2020.
Andrea Gacki,
Director, Office of Foreign Assets Control.

Editorial Note: This document was received for publication by the Office of the Federal Register on Oct 29, 2020.

[FR Doc. 2020-24354 Filed 11-2-20; 8:45 am]

BILLING CODE 4810-AL-P